DEPARTMENT OF COMMERCE

National Oceanic and Atmospheric Administration

50 CFR Part 679

[Docket No. 011218304-2062-02; I. D. 121701A]

RIN 0648-AP69

Fisheries of the Exclusive Economic Zone Off Alaska; Steller Sea Lion Protection Measures and 2002 Harvest Specifications and Associated Management Measures for the Groundfish Fisheries off Alaska; Correction

AGENCY: National Marine Fisheries Service (NMFS), National Oceanic and Atmospheric Administration (NOAA), Commerce.

ACTION: Emergency interim rule; correction, and request for comments.

SUMMARY: This document corrects an emergency interim rule implementing Steller sea lion protection measures and 2002 harvest specifications for the Alaska groundfish fishery. These corrections are needed to afford Atka mackerel fishery participants an additional opportunity to register for the 2002 B season harvest limit area fishery in the Aleutian Islands subarea.

DATES: Effective July 10, 2002. Comments must be received on or before 5 p.m., A.l.t., August 9, 2002.

ADDRESSES: Comments must be sent to Sue Salveson, Assistant Regional Administrator, Sustainable Fisheries Division, Alaska Region, NMFS, P.O. Box 21668, Juneau, AK 99802, Attn: Lori Gravel-Durall, or delivered to room 401 of the Federal Building, 709 West 9th Street, Juneau, AK. Comments will not be accepted if submitted via e-mail or Internet. Copies of the Supplemental Environmental Impact Statement on Steller Sea Lion Protection Measures in the Federal Groundfish Fisheries Off Alaska (SEIS), including the 2001 biological opinion and regulatory impact review, and the Environmental Assessment (EA) for the Total Allowable Catch for the Year 2002 Alaska Groundfish Fisheries may be obtained from the same address. The SEIS and EA are also available on the NMFS Alaska Region home page at http://www.fakr.noaa.gov.

FOR FURTHER INFORMATION CONTACT: Melanie Brown, NMFS, 907-586-7228 or e-mail at melanie.brown@noaa.gov.

SUPPLEMENTARY INFORMATION: The emergency interim rule published January 8, 2002 (67 FR 956), amended and corrected May 1, 2002, (67 FR 21600) and extended May 16, 2002 (67 FR 34860), implements Steller sea lion protection measures and final 2002 harvest specifications for the groundfish fisheries of the Bering Sea and Aleutian Islands management area (BSAI) and the Gulf of Alaska (GOA). As published, the final rule contains errors regarding the registration process for the Atka mackerel harvest limit area (HLA) directed fishery in the Aleutian Islands subarea. This document corrects these errors.

Corrections

This action implements a registration process for the 2002 B season harvest limit area (HLA) directed fishery for Atka mackerel. The Council and NMFS intended that two separate lottery processes would be used, one for each of the A and B season Atka mackerel fisheries in the Aleutian Islands subarea and that vessels would be provided the opportunity to participate in the A and/or B season HLA directed fisheries.

January 15, 2002, is specified in the regulations as the cut off date for registering to participate in the HLA directed fishery. This date was intended to ensure that registration was received in time to perform the lottery for vessel platoon assignments and to notify participants of the results before the A season began on January 20. As the regulatory text is currently written, vessels that were not registered by January 15, 2002, would be excluded from participating in both the A and B season HLA directed fishery. The emergency rule did not address the timing or process for the B season lottery. This omission is being corrected by this action.

In order to conduct a B season lottery for the HLA directed fishery and provide all vessels the opportunity to participate, vessels maintaining their Atka mackerel Federal fisheries permit (FFP) endorsement through July 31 will be entered in the lottery to participate in the B season fishery. Vessels that were not used in the A season Atka mackerel HLA directed fishery but that register under § 679.4(b)(5)(vii) by 4:30 p.m., A. l. t., August 1, 2002, may participate in the lottery for the B season HLA directed fishery, which begins September 1, 2002.

Under § 679.7(a)(19), vessels participating in an HLA directed fishery are restricted from other groundfish fishing during the first directed fishery assignment in the season. If the owner of a vessel that was used in the A season HLA directed fishery wishes to participate in a directed fishery for other groundfish species during the B season HLA directed fishery, the owner must have the FFP amended to remove the Atka mackerel HLA directed fishery endorsement before August 1, 2002. Otherwise, the vessel will be entered into the HLA directed fishery lottery and assigned a platoon for the Atka mackerel B season fishery.

Classification

The Administrator, Alaska Region, NMFS (Regional Administrator), has determined that this correction is necessary for the conservation and management of the groundfish fisheries of the BSAI and GOA. The Regional Administrator also has determined that this correction is consistent with the Magnuson-Stevens Act and other applicable laws. No relevant Federal rules exist that may duplicate, overlap, or conflict with this action.

This correction has been determined to be not significant for purposes of Executive Order 12866.

Consistent with the National Environmental Policy Act (NEPA), NMFS prepared an environmental assessment (EA) for the total allowable catch specifications portion of the January 8, 2002, emergency interim rule. NMFS also prepared a supplemental environmental impact statement (SEIS) for the Steller sea lion protection measures; a notice of availability of the draft SEIS was published in the Federal Register on August 31, 2001 (66 FR 45984). Comments were received and responded to in the final SEIS and the final document was issued November 23, 2001 (66 FR 58734). The final SEIS and EA are available from NMFS (see ADDRESSES). Based on a comparison of the effects of the other alternatives in the SEIS, NMFS determined that this action meets the Endangered Species Act (ESA) requirements for Steller sea lion protection and environmental protection without providing extreme economic hardship that was anticipated from the most environmentally desirable alternative. Potential adverse impacts on marine mammals resulting from fishing activities conducted under the emergency interim rule (67 FR 956, January 8, 2002) are discussed in the EA and final SEIS. The correction in this action is within the scope of these NEPA analyses.

A formal section 7 consultation under the ESA was initiated for the emergency interim rule (67 FR 956, January 8, 2002) under the FMPs for the groundfish fisheries of the BSAI and the GOA. In a biological opinion dated October 17, 2001, the Director of the Office of Protected Resources determined that fishing activities conducted under the Steller sea lion protection measures implemented by the emergency interim rule (67 FR 956, January 8, 2002) are not likely to jeopardize the continued existence of any endangered or threatened species or result in the destruction or adverse modification of critical habitat. In a memorandum dated December 11, 2001, from the Office of Protected Resources to the Office of Sustainable Fisheries, biological opinions dated December 22, 1999, and December 23, 1999, were extended for 1 year from January 1, 2002, for purposes of the harvest specifications implemented by the January 8, 2002 emergency interim rule. This correction is consistent with the objectives for Steller sea lion protection measures implemented in 2002, the ESA, and other applicable laws, and will not affect listed species or critical habitat in any manner not previously evaluated in prior consultations.

By this action, NMFS is correcting the Steller sea lion protection measures which have been in effect since January 1, 2002, for the BSAI and GOA. This correction clarifies the requirements for registration in the Atka mackerel HLA directed fishery for the B season starting September 1, 2002. Registration for this fishery must be completed by August 1, 2002, to allow NMFS to conduct the lottery and to notify participants of results before the start of the fishery. Because delay in implementing this correction would unnecessarily limit opportunity for participation in the Atka mackerel HLA directed fishery, it is impracticable to provide prior notice and an opportunity for public comment and contrary to the public interest pursuant to 5 U.S.C. 553(b)(3). For the same reasons, a delay in the effective date is hereby waived pursuant to 5 U.S.C. 553(d)(3). Because prior notice and opportunity for public comment are not required for this correction to the emergency interim rule by 5 U.S.C. 553 or any other law, the analytical requirements of the Regulatory Flexibility Act, 5 U.S.C. 601 et seq.are not applicable. Therefore, a regulatory flexibility analysis has not been prepared.

List of Subjects in 50 CFR Part 679

Alaska, Fisheries, Recordkeeping and reporting requirements.

Dated: July 1, 2002.
William T. Hogarth,
Assistant Administrator for Fisheries, National Marine Fisheries Service.

For reasons set out in the preamble, 50 CFR part 679 is amended as follows:

PART 679—FISHERIES OF THE EXCLUSIVE ECONOMIC ZONE OFF ALASKA

1. The authority citation for part 679 continues to read as follows:

Authority: 16 U.S.C. 773 et seq.; 1801 et seq.; 3631 et seq.; Title II of Division C, Pub. L. 105-277; Sec. 3027, Pub. L. 106-31; 113 Stat. 57; 16 U.S.C. 1540(f); and Sec. 209, Pub. L. 106-554.

2. In § 679.20, paragraphs (a)(8)(iii) and (a)(8)(iii)(A) are revised to read as follows:

§ 679.20 General limitations.

* * * * *

(a) * * *

(8) * * *

(iii) Platoon management of Atka mackerel harvest limit area directed fishing (applicable through December 31, 2002)—(A) Registration. All vessels using trawl gear for directed fishing for Atka mackerel in the HLA, as defined in § 679.2, are required to register with NMFS. To register, the vessel owner or operator must provide information required by § 679.4(b)(5)(vii) for an endorsement to the vessel’s Federal fishery permit issued under § 679.4.

(1) To participate in the A season HLA fishery, registration information must be received by NMFS, Restricted Access Management Program, by 4:30 p.m., A.l.t., on the first working day following January 15, 2002.

(2) To participate in the B season HLA fishery,

(i) The vessel must be registered for the A season HLA fishery and must be registered for the HLA fishery through August 1, 2002, or

(ii) Registration information for the HLA fishery must be received by NMFS, Restricted Access Management Program, by 4:30 p.m., A.l.t., August 1, 2002.

* * * * *

[FR Doc. 02-17045 Filed 7-9-02; 8:45 am]

BILLING CODE 3510-22-S